DEPARTMENT OF TRANSPORTATION

Federal Aviation Administration

14 CFR Part 39

[Docket No. 99-NM-75-AD; Amendment 39-11816; AD 2000-14-07]

RIN 2120-AA64

Airworthiness Directives; Boeing Model 727 Series Airplanes

AGENCY: Federal Aviation Administration, DOT.

ACTION: Final rule; correction.

SUMMARY: This document corrects information in an existing airworthiness directive (AD) that applies to certain Boeing Model 727 series airplanes. That AD supersedes an earlier airworthiness directive to require repetitive inspections to detect cracking of the rear spar web or fuel leakage of the wing center section; repair, if necessary; and modification of the rear spar web. This document corrects the effective date of the earlier, superseded AD, which was stated incorrectly in the existing AD. This correction is necessary to ensure that operators are advised of the correct effective date of the original AD, specifically as it affects the compliance time for a certain paragraph of this AD.

DATES: Effective August 17, 2000.

The incorporation by reference of Boeing Service Bulletin 727-57A0182, Revision 1, dated February 25, 1999, as listed in the regulations, was approved previously by the Director of the Federal Register as of August 17, 2000 (65 FR 43228, July 13, 2000).

The incorporation by reference of Boeing Alert Service Bulletin 727-57A0182, dated September 18, 1997, as listed in the regulations, was approved previously by the Director of the Federal Register as of December 29, 1997 (62 FR 65355, December 12, 1997).

FOR FURTHER INFORMATION CONTACT: Walter Sippel, Aerospace Engineer, Airframe Branch, ANM-120S, FAA, Seattle Aircraft Certification Office, 1601 Lind Avenue, SW., Renton, Washington 98055-4056; telephone (425) 227-2774; fax (425) 227-1181.

SUPPLEMENTARY INFORMATION: On July 3, 2000, the Federal Aviation Administration (FAA) issued AD 2000-14-07, amendment 39-11816 (65 FR 43228, July 13, 2000), which applies to certain Boeing Model 727 series airplanes. That AD supersedes an earlier airworthiness directive, AD 97-25-15, amendment 39-10239 (62 FR 65355, December 12, 1997), to require repetitive inspections to detect cracking of the rear spar web or fuel leakage of the wing center section; repair, if necessary; and modification of the rear spar web. That AD was prompted by several reports of fuel leakage due to cracking of the rear spar web of the wing center section. The actions required by that AD are intended to prevent cracking of the rear spar web, which could permit fuel leakage into the airflow multiplier, and could result in an electrical short that could cause a fire.

Need for the Correction

The FAA has found that the effective date associated with the earlier, superseded AD (AD 97-25-15) was stated incorrectly in paragraph (a) of AD 2000-14-07. The compliance time in paragraph (a) of AD 2000-14-07, which is a restatement of paragraph (a) of AD 97-25-15, reads, “Prior to the accumulation of 15,000 total flight cycles, or within 300 flight cycles after December 27, 1997 (the effective date of AD 97-25-15, amendment 39-10239), whichever occurs later.” The correct effective date of AD 97-25-15 is December 29, 1997.

The FAA has determined that a correction to AD 2000-14-07 is necessary. The correction will ensure that operators are advised of the correct effective date of the original AD, particularly as its affects the compliance time for paragraph (a) of the AD.

Explanation of Additional Error

In AD 2000-14-07, Item 2. under the section “Adoption of the Amendment” reads, “Section 39.13 is amended by removing amendment 39-10239 (62 FR 65355, December 29, 1997).” The referenced date should be December 12, 1997, which is the date that AD 97-25-15 was published in the Federal Register. This section is not restated in this document; therefore, no change to this AD is necessary in this regard.

Correction of Publication

This document corrects the error in paragraph (a) and correctly adds the AD as an amendment to section 39.13 of the Federal Aviation Regulations (14 CFR 39.13).

The AD is reprinted in its entirety for the convenience of affected operators. The effective date of the AD remains August 17, 2000.

Since this action only corrects a calendar date that was referenced incorrectly, it has no adverse economic impact and imposes no additional burden on any person. Therefore, the FAA has determined that notice and public procedures are unnecessary.

List of Subjects in 14 CFR Part 39

Air transportation, Aircraft, Aviation safety, Incorporation by reference, Safety.

Adoption of the Correction

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Corrected]

2. Section 39.13 is amended by correctly adding the following airworthiness directive (AD):

2000-14-07 Boeing: Amendment 39-11816. Docket 99-NM-75-AD.

Applicability: Model 727 series airplanes having line numbers 858 through 864 inclusive, 867 through 869 inclusive, 872 through 883 inclusive, and 885 through 1832 inclusive; certificated in any category.

Note 1: This AD applies to each airplane identified in the preceding applicability provision, regardless of whether it has been modified, altered, or repaired in the area subject to the requirements of this AD. For airplanes that have been modified, altered, or repaired so that the performance of the requirements of this AD is affected, the owner/operator must request approval for an alternative method of compliance in accordance with paragraph (e)(1) of this AD. The request should include an assessment of the effect of the modification, alteration, or repair on the unsafe condition addressed by this AD; and, if the unsafe condition has not been eliminated, the request should include specific proposed actions to address it.

Compliance: Required as indicated, unless accomplished previously.

To prevent cracking of the rear spar web, which could permit fuel leakage into the airflow multiplier, and could result in an electrical short that could cause a fire, accomplish the following:

Restatement of the Requirements of AD 97-25-15

Inspections

(a) Prior to the accumulation of 15,000 total flight cycles, or within 300 flight cycles after December 29, 1997 (the effective date of AD 97-25-15, amendment 39-10239), whichever occurs later: Accomplish the inspections specified in either paragraph (a)(1) or (a)(2) of this AD, in accordance with Boeing Alert Service Bulletin 727-57A0182, dated September 18, 1997, or Boeing Service Bulletin 727-57A0182, Revision 1, dated February 25, 1999. For purposes of the AD, the access panels specified in the alert service bulletin need not be removed; the access panels need only be opened.

Note 2: The fuel tank of the wing center section may be filled with fuel to assist in detecting cracking or fuel leakage during the accomplishment of the visual inspections required by this AD.

(1) Perform a visual inspection using a borescope or mirror to detect cracking of the rear spar web and/or fuel leakage of the wing center section between right body buttock line (BBL) 40 and left BBL 40, in accordance with Part I of the Accomplishment Instructions of the service bulletin. Thereafter, repeat this inspection at intervals not to exceed 300 flight cycles. Or

(2) Perform an ultrasonic and high frequency eddy current (HFEC) inspection to detect cracking of the rear spar web of the wing center section between right BBL 40 and left BBL 40, in accordance with Part II of the Accomplishment Instructions of the service bulletin. Thereafter, repeat this inspection at intervals not to exceed 3,000 flight cycles.

Repair

(b) If any cracking of the rear spar web and/or fuel leakage of the wing center section is detected between right BBL 40 and left BBL 40 near the upper machined land radius, prior to further flight, repair in accordance with Part III of the Accomplishment Instructions in Boeing Alert Service Bulletin 727-57A0182, dated September 18, 1997, or Boeing Service Bulletin 727-57A0182, Revision 1, dated February 25, 1999. Accomplishment of this repair constitutes terminating action for the repetitive inspection requirements of this AD.

(c) If any cracking of the rear spar web and/or fuel leakage of the wing center section is detected that is outside the area specified in paragraph (b) of this AD, prior to further flight, repair in accordance with a method approved by the Manager, Seattle Aircraft Certification Office (ACO), FAA, Transport Airplane Directorate; or in accordance with data meeting the type certification basis of the airplane approved by a Boeing Company Designated Engineering Representative who has been authorized by the Manager, Seattle ACO, to make such findings. For a repair method to be approved by the Manager, Seattle ACO, as required by this paragraph, the Manager's approval letter must specifically reference this AD.

New Requirements of This AD

Modification

(d) Prior to the accumulation of 60,000 total flight cycles, or within 3,000 flight cycles after the effective date of this AD, whichever occurs later, accomplish an ultrasonic and HFEC inspection in accordance with the requirements of paragraph (a)(2) of this AD.

(1) If no cracking is detected, prior to further flight, modify the rear spar web of the center section of the fuel tank between right BBL 40 and left BBL 40, in accordance with the Accomplishment Instructions of Boeing Alert Service Bulletin 727-57A0182, dated September 18, 1997, or Boeing Service Bulletin 727-57A0182, Revision 1, dated February 25, 1999. Accomplishment of this modification constitutes terminating action for the repetitive inspection requirements of this AD.

(2) If any cracking is detected, prior to further flight, repair and modify the rear spar web in accordance with the Accomplishment Instructions of Boeing Alert Service Bulletin 727-57A0182, dated September 18, 1997, or Boeing Service Bulletin 727-57A0182, Revision 1, dated February 25, 1999. Accomplishment of this modification constitutes terminating action for the repetitive inspection requirements of this AD.

Alternative Methods of Compliance

(e)(1) An alternative method of compliance or adjustment of the compliance time that provides an acceptable level of safety may be used if approved by the Manager, Seattle ACO. Operators shall submit their requests through an appropriate FAA Principal Maintenance Inspector, who may add comments and then send it to the Manager, Seattle ACO.

(2) Alternative methods of compliance, approved previously in accordance with AD 97-25-15, amendment 39-10239, are approved as alternative methods of compliance with this AD.

Note 3: Information concerning the existence of approved alternative methods of compliance with this AD, if any, may be obtained from the Seattle ACO.

Special Flight Permits

(f) Special flight permits may be issued in accordance with sections 21.197 and 21.199 of the Federal Aviation Regulations (14 CFR 21.197 and 21.199) to operate the airplane to a location where the requirements of this AD can be accomplished, provided the limitations specified in paragraphs (f)(1) through (f)(6) of this AD are included in the special flight permit:

“(1) Required trip and reserve fuel must be carried in the No. 1 and No. 3 outer wing tanks.

(2) Wing center tank No. 2 must be empty of fuel.

(3) The fuel system must be checked for normal operation prior to flight by verifying that all boost pumps are operational; configuring the fuel system by turning on all boost pumps in the No.'s 1 and 3 outer wing tanks and by opening all crossfeed valve selectors; and by confirming that fuel is not bypassing tank No. 2 check valves by observing that there is not leakage into tank No. 2.

(4) Maintain a minimum of 5,300 pounds of fuel in tanks No. 1 and No. 3 to prevent uncovering the fuel bypass valve.

(5) The fuel quantity indication system must be operational in all three tanks.

(6) The effects of loading fuel only in the wing tanks on the airplane weight and balance must be considered and accounted for.”

Incorporation by Reference

(g) Except as provided by paragraph (c) of this AD, the actions shall be done in accordance with Boeing Alert Service Bulletin 727-57A0182, dated September 18, 1997; or Boeing Service Bulletin 727-57A0182, Revision 1, dated February 25, 1999.

(1) The incorporation by reference of Boeing Service Bulletin 727-57A0182, Revision 1, dated February 25, 1999, was approved previously by the Director of the Federal Register as of August 17, 2000 (65 FR 43228, July 13, 2000).

(2) The incorporation by reference of Boeing Alert Service Bulletin 727-57A0182, dated September 18, 1997, was approved previously by the Director of the Federal Register as of December 29, 1997 (62 FR 65355, December 12, 1997).

(3) Copies may be obtained from Boeing Commercial Airplane Group, P.O. Box 3707, Seattle, Washington 98124-2207. Copies may be inspected at the FAA, Transport Airplane Directorate, 1601 Lind Avenue, SW., Renton, Washington; or at the Office of the Federal Register, 800 North Capitol Street, NW., suite 700, Washington, DC.

Effective Date

(h) The effective date of this amendment remains August 17, 2000.

Issued in Renton, Washington, on September 1, 2000.
Donald L. Riggin,
Acting Manager, Transport Airplane Directorate, Aircraft Certification Service.

[FR Doc. 00-23042 Filed 9-7-00; 8:45 am]

BILLING CODE 4910-13-P